DEPARTMENT OF DEFENSE

Office of the Secretary

Defense Advisory Committee for the Prevention of Sexual Misconduct; Notice of Federal Advisory Committee Meeting

AGENCY: Under Secretary of Defense for Personnel and Readiness, Department of Defense (DoD).

ACTION: Notice of Federal Advisory Committee meeting.

SUMMARY: The DoD is publishing this notice to announce that the following Federal Advisory Committee meeting of the Defense Advisory Committee for the Prevention of Sexual Misconduct (DAC-PSM) will take place.

DATES: DAC-PSM will hold a meeting open to the public—Thursday, December 8, 2022 from 9:00 a.m. to 2:30 p.m. (EST).

ADDRESSES: The public may access the meeting by videoconference. Public access information will be provided after registering. (Pre-meeting registration is required. See guidance in SUPPLEMENTARY INFORMATION, “Meeting Accessibility”).

FOR FURTHER INFORMATION CONTACT: Dr. Suzanne Holroyd, (571) 372-2652 (voice), osd.mc-alex.ousd-p-r.mbx.DAC-PSM@mail.mil (email). Website: www.sapr.mil/DAC-PSM. The most up-to-date changes to the meeting agenda can be found on the website.

SUPPLEMENTARY INFORMATION: This meeting is being held under the provisions of the Federal Advisory Committee Act (FACA) of 1972 (5 U.S.C. Appendix, as amended), the Government in the Sunshine Act of 1976 (5 U.S.C. 552b, as amended), and 41 CFR 102-3.140 and 102-3.150.

Availability of Materials for the Meeting: Additional information, including the agenda or any updates to the agenda, is available on the DAC-PSM website (www.sapr.mil/DAC-PSM). Materials presented in the meeting may also be obtained on the DAC-PSM website.

Purpose of the Meeting: The purpose of the meeting is for the DAC-PSM to receive briefings and have discussions on topics related to the prevention of sexual misconduct within the Armed Forces of the United States.

Agenda: Thursday, December 8, 2022 from 9:00 a.m. to 2:30 p.m. (EST)—Meeting Opening, IRC Training Recommendations, Military Service Training Briefs, and DAC-PSM Discussion.

Meeting Accessibility: Pursuant to 5 U.S.C. 552b and 41 CFR 102-3.140 through 102-3.165, this meeting is open to the public from 9:00 a.m. to 2:30 p.m. (EST) on December 8, 2022. The public may access the meeting by videoconference. The number of participants is limited and is on a first-come basis. All members of the public who wish to participate must register by contacting DAC-PSM at osd.mc-alex.ousd-p-r.mbx.DAC-PSM@mail.mil or by contacting Dr. Suzanne Holroyd at (571) 372-2652 no later than Thursday, December 1, 2022 (by 5:00 p.m. EST). Once registered, the web address and/or audio number will be provided.

Special Accommodations: Individuals requiring special accommodations to access the public meeting should contact Dr. Suzanne Holroyd at osd.mc-alex.ousd-p-r.mbx.DAC-PSM@mail.mil or (571) 372-2652 no later than Thursday, December 1, 2022 (by 5:00 p.m. EST) so that appropriate arrangements can be made.

Written Statements: Pursuant to section 10(a)(3) of the FACA and 41 CFR 102-3.140, interested persons may submit a written statement to the DAC-PSM. Individuals submitting a written statement must submit their statement no later than Thursday, December 1, 2022 (by 5:00 p.m. EST) to Dr. Suzanne Holroyd at (571) 372-2652 (voice) or to osd.mc-alex.ousd-p-r.mbx.DAC-PSM@mail.mil (email). If a statement pertaining to a specific topic being discussed, at the planned meeting is not received by Thursday, December 1, 2022, prior to the meeting, then it may not be provided to, or considered by the DAC-PSM during the December 8, 2022 meeting. The Designated Federal Officer will review all timely submissions with the DAC-PSM's Chair and ensure such submissions are provided to the members of the DAC-PSM members before the meeting.

Dated: October 21, 2022.
Aaron T. Siegel,
Alternate OSD Federal Register Liaison Officer, Department of Defense.

[FR Doc. 2022-23313 Filed 10-25-22; 8:45 am]

BILLING CODE 5001-06-P